DEPARTMENT OF THE INTERIOR

Bureau of Land Management

[LLORV00000.L10200000.DF0000.LXSSH1040000.17X.HAG 17-0168]

Notice of Public Meeting for the John Day—Snake Resource Advisory Council, Oregon

AGENCY: Bureau of Land Management, Interior.

ACTION: Notice of public meeting.

SUMMARY: In accordance with the Federal Land Policy and Management Act of 1976, the Federal Lands Recreation Enhancement Act of 2004, and the Federal Advisory Committee Act of 1972, the U.S. Department of the Interior, Bureau of Land Management (BLM) John Day—Snake Resource Advisory Council (RAC) will meet as indicated below.

DATES: The RAC will hold a public meeting on Thursday, October 12, 2017, from 12:00 p.m. until 5 p.m., and on Friday, October 13, 2017, from 8 a.m. until 1 p.m. A public comment period will be held during Friday's meeting from 10 a.m. to 10:30 a.m.

ADDRESSES: The meeting will take place at the Springhill Suites, 551 Industrial Way, Bend, OR 97702. If you cannot attend the meeting in person, you may call in on the telephone conference line number at 1-877-989-1244, Participant Code: 3005406#. The agenda will be posted online by September 11, 2017, at https://www.blm.gov/site-page/get-involved-resource-advisory-council-near-you-oregon-washington-john-day-rac.

FOR FURTHER INFORMATION CONTACT: Lisa Clark, Public Affairs Officer, BLM Prineville District Office, 3050 NE 3rd St., Prineville, Oregon 97754; 541-416-6700; lmclark@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The 15-member John Day—Snake RAC was chartered to provide advice to BLM and U.S. Forest Service resource managers regarding management plans and proposed resource actions on public land in central and eastern Oregon. All advisory council meetings are open to the public. If you have information that you wish to distribute to the RAC, please do so prior to the start of each meeting.

Agenda items for the meeting include: A presentation on the Ochoco National Forest sustainable recreation strategy and subsequent fee proposal; a subcommittee report on the Lower Deschutes River Fee Proposal and potential decision; an update on Central and Eastern Oregon Greater sage-grouse populations, including an overview of the causal factor analysis process and any plans for reducing impacts to local Sage-Grouse populations; a presentation by the South Fork John Day Watershed Council; a fee proposal by the Wallowa-Whitman National Forest; an update on the Blue Mountain Forest Resiliency project; and an update on Torrefied Biomass as a fuel commodity by Matt Krumenauer, Principle, Oregon Torrefaction, LLC. In addition, RAC members will set the 2018 meeting schedule and will identify future-topic presentations for the RAC meetings. Any other matters that may reasonably come before the RAC may also be addressed. A public comment period will be available on October 13 from 10:00-10:30 a.m. During this time, each speaker may address the RAC for a maximum of 5 minutes. Meeting times and the duration of the public comment period may be extended or altered when the authorized representative considers it necessary to accommodate business and all who seek to be heard regarding matters before the RAC.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Donald Gonzalez,
Vale District Manager.

[FR Doc. 2017-20149 Filed 9-20-17; 8:45 am]

BILLING CODE 4310-33-P